FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Administrator has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona: Maricopa (FEMA Docket No. D-7525) | City of Tempe | May 1, 2002, May 8, 2002, Arizona Republic | The Honorable Neil G. Giuliano, Mayor of the City of Tempe, P.O. Box 5002, Tempe, Arizona 85280 | Aug. 6, 2002 | 040054 G&F
Connecticut:
Hartford (FEMA Docket No. D-7525) | Town of Berlin | April 26, 2002, May 3, 2002, The Herald | Ms. Bonnie Therrien, Manager of the Town of Berlin, Town Hall, 240 Kensington Road, Berlin, Connecticut 06037 | Apr. 15, 2002 | 090022 D
Fairfield (FEMA Docket No. D-7525) | City of Stamford | May 10, 2002, May 17, 2002, The Stamford Advocate | The Honorable Dannel P. Malloy, Mayor of the City of Stamford, 888 Washington Boulevard, 10th Floor Government Center, Stamford, Connecticut 06904 | Apr. 23, 2002 | 090015 C&D
Indiana: Hamilton (FEMA Docket No. D-7525) | Town of Westfield | April 12, 2002, April 19, 2002, The Daily Ledger | Mr. Michael McDonald, Town of Westfield Council President, 130 Penn Street, Westfield, Indiana 46074 | July 19, 2002 | 180083 C
North Carolina:
Wake (FEMA Docket No. D-7525) | Town of Cary | Apr. 23, 2002, April 30, 2002, The News and Observer | The Honorable Glenn Lang, Mayor of the Town of Cary, P.O. Box 8005, Cary, North Carolina 27512 | July 30, 2002 | 370238 F&E
Lee (FEMA Docket No. D-7525) | City of Sanford | Apr. 18, 2002, April 25, 2002, Sanford Herald | The Honorable Winston C. Hestor, Mayor of the City of Sanford, P.O. Box 3729, Sanford, North Carolina 27331-3729 | July 25, 2002 | 370143 B
Pennsylvania: Chester (FEMA Docket No. D-7523) | Township of Willistown | April 17, 2002, April 24, 2002, Daily Local News | Mr. Robert T. Lang, Chairman of the Township of Willistown Board of Supervisors, 688 Sugartown Road, Malvern, Pennsylvania 19335 | Apr. 1, 2002 | 422282 D
South Carolina: Lexington (FEMA Docket No. D-7525) | Unincorporated Areas | April 19, 2002, April 26, 2002, The State | Mr. Bill Banning, Council Chairman, 212 South Lake Drive, Lexington, South Carolina 29072 | July 26, 2002 | 450129 G
Virginia:
Loudoun (FEMA Docket No. D-7525) | Town of Leesburg | May 15, 2002, May 22, 2002, Loudoun Times Mirror | The Honorable B. J. Webb, Mayor of the Town of Leesburg, 25 West Market Street, P.O. Box 88, Leesburg, Virginia 20178 | Aug. 21, 2002 | 510091 D
Loudoun (FEMA Docket No. D-7525) | Unincorporated Areas | May 22, 2002, May 29, 2002, Loudoun Times Mirror | Mr. Kirby Bowers, Loudoun County Administrator, 1 Harrison Street, S.E., 5th Floor, P.O. Box 7000, Leesburg, Virginia 20177-7000 | May 6, 2002 | 510090 D
Prince William (FEMA Docket No. D-7523) | Unincorporated Areas | April 19, 2002, April 26, 2002, Potomac News | Mr. Craig Gerhart, Prince William County Executive, 1 County Complex Court, Prince William, Virginia 22192 | Apr. 3, 2002 | 510119 D

(Catalog of Federal Domestic Assistance No. 83.100, “Flood Insurance.”)
Dated: October 30, 2002.
Anthony S. Lowe,
Administrator, Federal Insurance and Mitigation Administration.

[FR Doc. 02-27963 Filed 11-1-02; 8:45 am]

BILLING CODE 6718-04-P